ENVIRONMENTAL PROTECTION AGENCY

[FRL-13013-01-R3]

Clean Air Act Operating Permit Program; Order on Petition for Objection to State Operating Permit for Neville Chemical Company

AGENCY: Environmental Protection Agency (EPA).

ACTION: Notice of final order on petition.

SUMMARY: The Environmental Protection Agency (EPA) Administrator signed an order dated September 16, 2025, granting in part and denying in part a petition dated September 20, 2024, from Environmental Integrity Project, PennFuture, Clean Air Council, and Food & Water Watch. The petition requested that the EPA object to a Clean Air Act (CAA) title V operating permit issued by the Allegheny County Health Department to Neville Chemical Company for its resin manufacturing operation located in Neville Township, Allegheny County, Pennsylvania.

FOR FURTHER INFORMATION CONTACT: Ms. Gwendolyn Supplee, EPA Region 3, (215) 814-2763, supplee.gwendolyn@epa.gov. The final order and petition are available electronically at: https://www.epa.gov/title-v-operating-permits/title-v-petition-database.

SUPPLEMENTARY INFORMATION: The EPA received a petition from Environmental Integrity Project, PennFuture, Clean Air Council, and Food & Water Watch dated September 20, 2024, requesting that the EPA object to the issuance of operating permit no. 0060-OP24, issued by Allegheny County Health Department to Neville Chemical Company in Neville Township, Allegheny County, Pennsylvania. On September 16, 2025, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than January 20, 2026.

Michael Dunn,
Acting Director, Air & Radiation Division, Region III.

[FR Doc. 2025-20412 Filed 11-19-25; 8:45 am]

BILLING CODE 6560-50-P